DEPARTMENT OF ENERGY

Western Area Power Administration

Colusa-Sutter 500-Kilovolt Transmission Line Project, Colusa and Sutter Counties, California (DOE/EIS-0514)

AGENCY: Western Area Power Administration, Department of Energy

ACTION: Extension of scoping period.

SUMMARY: On December 18, 2015, Western Area Power Administration (Western), an agency of the Department of Energy (DOE), announced the Notice of Intent to prepare an Environmental Impact Statement/Environmental Impact Report (EIS/EIR) for the proposed 500-kilovolt (kV) transmission line to be located within Colusa and Sutter Counties, California. This proposed Project is known as the Colusa-Sutter (CoSu) 500-kV Transmission Line Project. In that previous notice, Western described the schedule for scoping meetings and advised the public that comments on the scope of the EIS/EIR were due by February 16, 2016. By this notice, Western extends the due date for comments on the scope of the EIS/EIR to April 18, 2016.

DATES: The date to provide comments on the scope of the EIS/EIR is extended to April 18, 2016.

ADDRESSES: Written comments on the proposed scope of the Draft EIS/EIR for this proposed Project may be mailed or emailed to Mr. Andrew M. Montaño, National Environmental Policy Act (NEPA) Document Manager, Western Area Power Administration, Headquarters, P.O. Box 281213, Lakewood, CO 80228-8213, or by email: montano@wapa.gov.

FOR FURTHER INFORMATION CONTACT: For further information and/or to have your name added to our mailing list, please contact Andrew M. Montaño, at (720) 962-7253 or at the address listed above in the ADDRESSES section.

For general information on DOE's NEPA review procedures or status of a NEPA review, contact Ms. Carol M. Borgstrom, Director of NEPA Policy and Compliance, GC-54, U.S. Department of Energy, 1000 Independence Avenue SW., Washington, DC 20585; telephone (202) 586-4600 or (800) 472-2756; or email: askNEPA@hq.doe.gov.

For general information on the SMUD CEQA review procedures or status of the CEQA review, please contact Ms. Emily Bacchini, Environmental Management Specialist, Sacramento Municipal Utility District, 6201 S. Street, Mailstop H201, Sacramento, CA 95852-1830; telephone (916) 732-6334; email: Emily.Bacchini@smud.org.

SUPPLEMENTARY INFORMATION: On December 18, 2015, Western announced the Notice of Intent to prepare an EIS for the CoSu 500-kV Transmission Line Project (80 FR 79037). The EIS/EIR will examine the potential environmental effects of the CoSu transmission line. Western will prepare the EIS/EIR with the Sacramento Municipal Utility District, as the lead state agency. In the previous notice, Western described the schedule for scoping meetings for the EIS/EIR, and advised the public that comments regarding the scope of the EIS/EIR were due by February 16, 2016. Western has received requests allowing for more time to comment. By this notice, Western extends the due date for comments on the scope of the EIS/EIR to April 18, 2016.

Dated: January 28, 2016.
Mark A. Gabriel,
Administrator.

[FR Doc. 2016-02242 Filed 2-4-16; 8:45 am]

BILLING CODE 6450-01-P